DEPARTMENT OF ENERGY

Federal Energy Regulatory Commission

[Docket No. CP01-141-000]

PG&E Gas Transmission, Northwest Corporation; Notice of Intent To Prepare an Environmental Assessment for the Proposed PG&ENW 2002 Expansion Project and Request for Comments on Environmental Issues

April 12, 2001.

The staff of the Federal Energy Regulatory Commission (FERC or Commission) will prepare an environmental assessment (EA) that will discuss the environmental impacts of the PG&ENW 2002 Expansion Project involving construction and operation of facilities by PG&E Gas Transmission, Northwest Corporation (PG&ENW) in several counties in Idaho, Washington, and Oregon.¹ These facilities would consist of about 21 miles of 42-inch-diameter pipeline loop² and 97,500 horsepower (hp) of compression. This EA will be used by the Commission in its decision-making process to determine whether the project is in the public convenience and necessity.

¹ PG&ENW's application was filed with the Commission under section 7 of the Natural Gas Act and Part 157 of the Commission's regulations.

² A pipeline “loop” is a segment of pipeline that is installed parallel to or in the vicinity of an existing pipeline and connected to it at both ends in order to increase the volume of gas that can be transported through the pipeline system.

If you are a landowner receiving this notice, you may be contacted by a pipeline company representative about the acquisition of an easement to construct, operate, and maintain the proposed facilities. The pipeline company would seek to negotiate a mutually acceptable agreement. However, if the project is approved by the Commission, that approval conveys with it the right of eminent domain. Therefore, if easement negotiations fail to produce an agreement, the pipeline company could initiate condemnation proceedings in accordance with state law.

A fact sheet prepared by the FERC entitled “An Interstate Natural Gas Facility On My Land? What Do I Need To Know?” was attached to the project notice PG&ENW provided to landowners. This fact sheet addresses a number of typically asked questions, including the use of eminent domain and how to participate in the Commission's proceedings. It is available for viewing on the FERC Internet website (www.ferc.fed.us).

Summary of the Proposed Project

PG&ENW wants to expand the capacity of its facilities in Idaho, Washington and Oregon to transport an additional 210,800 decatherms (Dth) per day of natural gas annual firm service, including an additional 20,380 Dth per day of winter-only service to two customers. PG&ENW seeks authority to construct and operate:

• About 21 miles of 42-inch-diameter pipeline loop within and adjacent to PG&ENW's existing permanent right-of-way at mileposts (MP) 87.6 through 108.3 in Kootenai County, Idaho and Spokane County, Oregon (Loop C). Loop C would be the third loop along PG&ENW's transmission system;

• Various piping, blowdown, and valving additions at Main Line Valve (MLV) 5-1; and one new pig receiver and blowdown additions at MLV 5-2;

• One new 19,500 hp gas turbine centrifugal compressor; three new buildings; and a replacement standby generator at Compressor Station 4 in Bonner County, Idaho;

• Two new pig launchers, and tie-in facilities of the proposed loop at Compressor Station 5 in Kootenai County, Idaho;

• One new 19,500 gas turbine centrifugal compressor; one new building; one new pig receiver; relocation of a gas cooler; and a replacement standby generator at Compressor Station 6 in Spokane County, Oregon;

• One new 19,500 hp gas turbine centrifugal compressor; one new building; additional gas cooling facilities; and one standby generator at Compressor Station 8 in Walla Walla County, Washington;

• One new 19,500 hp gas turbine centrifugal compressor; two new buildings; relocation of gas cooler; a replacement standby generator at Compressor Station 10 in Sherman County, Oregon; and

• One new 19,500 hp gas turbine centrifugal compressor; three new buildings; relocation of one building and gas cooler; additional gas cooling facilities; and a replacement standby generator at Compressor Station 12 in Deschutes County, Oregon.

The location of the project facilities is shown in appendix 1.³

³ The appendices referenced in this notice are not being printed in the Federal Register. Copies are available on the Commission's website at the “RIMS” link or from the Commission's Public Reference and Files Maintenance Branch, 888 First Street, NE., Washington, DC 20426, or call (202) 208-1371. For instructions on connecting to RIMS refer to page 5 of this notice. Copies of the appendices were sent to all those receiving this notice in the mail.

Land Requirements for Construction

PG&ENW states that it would not need to obtain additional permanent right-of-way for the proposed project, and no existing land uses would be converted to utility easement. Construction of the proposed pipeline loop facility would require about 152 acres of existing PG&ENW permanent easement, and about 77 acres of temporary construction right-of-way, including about 2.7 acres of temporary workspace at road and railroad crossings.

The construction and installation of above-ground facilities at the compressor stations would temporary disturb about 16 acres. All compressor stations, with the exception of Compressor Station 12, are located on lands owned and maintained by PG&ENW. Compressor Station 12 is located on the Deschutes National Forest, whose lands are managed by the U.S. Forest Service.

PG&ENW would use an additional 22 acres of land off the right-of-way for pipe storage and construction headquarters.

The EA Process

The National Environmental Policy Act (NEPA) requires the Commission to take into account the environmental impacts that could result from an action whenever it considers the issuance of a Certificate of Public Convenience and Necessity. NEPA also requires us⁴ to discover and address concerns the public may have about proposals. We call this “scoping”. The main goal of the scoping process is to focus the analysis in the EA on the important environmental issues. By this Notice of Intent, the Commission requests public comments on the scope of the issues it will address in the EA. All comments received are considered during the preparation of the EA. State and local government representatives are encouraged to notify their constituents of this proposed action and encourage them to comment on their areas of concern.

⁴ “We”, “us”, and “our” refer to the environmental staff of the Office of Energy Projects (OEP).

The EA will discuss impacts that could occur as a result of the construction and operation of the proposed project under these general headings:

• Geology and soils

• Water resources, fisheries, and wetlands

• Vegetation and wildlife

• Endangered and threatened species

• Land use

• Cultural resources

• Air quality and noise

• Public safety

We will also evaluate possible alternatives to the proposed project or portions of the project, and make recommendations on how to lessen or avoid impacts on the various resource areas.

Our independent analysis of the issues will be in the EA. Depending on the comments received during the scoping process, the EA may be published and mailed to Federal, state, and local agencies, public interest groups, interested individuals, affected landowners, newspapers, libraries, and the Commission's official service list for this proceeding. A comment period will be allotted for review if the EA is published. We will consider all comments on the EA before we make our recommendations to the Commission.

To ensure your comments are considered, please carefully follow the instructions in the public participation section beginning on page 5.

Currently Identified Environmental Issues

We have already identified several issues that we think deserve attention based on a preliminary review of the proposed facilities and the environmental information provided by PG&ENW. This preliminary list of issues may be changed based on your comments and our analysis.

• About 17 residences are located within 50 feet of the construction right-of-way in the Copper Valley Ranch subdivision between MPs 97.0 and 97.2 in Kootenai County, Idaho;

• Outside of the Copper Valley Ranch subdivision, about eight more residences are located within 50 feet of the construction right-of-way, three of which are within 25 feet.

• The Deschutes National Forest staff is concerned with the potential for noxious weed infestations; and that construction activities could potentially affect nesting raptors at Compressor Station 12 in Deschutes County, Oregon.

• Effects of the increased compression on noise and air quality. Compressor Stations 4, 6 and 12 have nearby noise-sensitive areas within 0.5 mile.

Public Participation

You can make a difference by providing us with your specific comments or concerns about the project. By becoming a commentor, your concerns will be addressed in the EA/EIS and considered by the Commission. You should focus on the potential environmental effects of the proposal, alternatives to the proposal (including alternative [locations/routes]), and measures to avoid or lessen environmental impact. The more specific your comments, the more useful they will be. Please carefully follow these instructions to ensure that your comments are received in time and properly recorded:

• Send an original and two copies of your letter to: David P. Boergers, Secretary, Federal Energy Regulatory Commission, 888 First St., NE., Room 1A, Washington, DC 20426.

• Label one copy of the comments for the attention of Gas 1, PJ-11.1.

• Reference Docket No. CP01-11-000.

• Mail your comments so that they will be received in Washington, DC on or before May 14, 2001.

Comments, protests and interventions may also be filed electronically via the Internet in lieu of paper. See 18 CFR 385.2001(a)(1)(iii) and the instructions on the Commission's web site at http://www.ferc.fed.us/efi/doorbell.htm under the link to the User's guide. Before you can file comments you will need to create an account which can be created by clicking on “Login to File” and then “New User Account.”

Becoming an Intervenor

In addition to involvement in the EA scoping process, you may want to become an official party to the proceeding known as an “intervenor”. Intervenors play a more formal role in the process. Among other things, intervenors have the right to receive copies of case-related Commission documents and filings by other intervenors. Likewise, each intervenor must provide 14 copies of its filings to the Secretary of the Commission and must send a copy of its filings to all other parties on the Commission's service list for this proceeding. If you want to become an intervenor you must file a motion to intervene according to Rule 214 of the Commission's Rules of Practice and Procedure (18 CFR 385.214) (see appendix 2).⁵ Only intervenors have the right to seek rehearing of the Commission's decision.

⁵ Interventions may also be filed electronically via the Internet in lieu of paper. See the previous discussion on filing comments electronically.

Affected landowners and parties with environmental concerns may be granted intervenor status upon showing good cause by stating that they have a clear and direct interest in this proceeding which would not be adequately represented by any other parties. You do not need intervenor status to have your environmental comments considered.

Additional information about the proposed project is available from the Commission's Office of External Affairs at (202) 208-1088 or on the FERC website (www.ferc.fed.us) using the “RIMS” link to information in this docket number. Click on the “RIMS” link, select “Docket #” from the RIMS Menu, and follow the instructions. For assistance with access to RIMS, the RIMS helpline can be reached at (202) 208-2222.

Similarly, the “CIPS” link on the FERC Internet website provides access to the texts of formal documents issued by the Commission, such as orders, notices, and rulemakings. From the FERC Internet website, click on the “CIPS” link, select “Docket #” from the CIPS menu, and follow the instructions. For assistance with access to CIPS, the CIPS helpline can be reached at (202) 208-2474.

David P. Boergers,
Secretary.

[FR Doc. 01-9558 Filed 4-17-01; 8:45 am]

BILLING CODE 6717-01-M